DEPARTMENT OF ENERGY

Federal Energy Regulatory Commission

[Docket No. ER98-2440-002, et al.]

Central Illinois Light Company, et al.; Electric Rate and Corporate Regulation Filings

June 7, 2001.

Take notice that the following filings have been made with the Commission:

1. Central Illinois Light Company

[Docket No. ER98-2440-002]

Take notice that on June 4, 2001, Central Illinois Light Company (CILCO), tendered for filing a triennial market power study for sales under its Market Rate Power Sales Tariff.

Comment date: June 25, 2001, in accordance with Standard Paragraph E at the end of this notice.

2. Duke Energy Mohave, LLC

[Docket No. ER01-1619-001]

Take notice that on June 4, 2001, Duke Energy Mohave, LLC (Duke Energy) tendered for filing the following tariff revised sheets as part of its FERC Electric Tariff, Original Volume No. 1, proposed to be effective on May 22, 2001.

First Revised Sheet No. 1

First Revised Sheet No. 2

Original Sheet No. 3

Duke Mohave states that the purpose of this filing is to comply with Duke Energy Mohave, LLC, 95 FERC 61,256 (2001). The revised sheets incorporate the changes directed by Ordering Paragraph (B) of the cited order.

Duke Mohave states that copies of its filing have been mailed to all affected customers and interested state commissions.

Comment date: June 25, 2001, in accordance with Standard Paragraph E at the end of this notice.

3. American Electric Power Service Corporation

[Docket No. ER01-2215-000]

Take notice that on June 4, 2001, the American Electric Power Service Corporation (AEPSC) tendered for filing an unexecuted Interconnection and Operation Agreement between Indiana Michigan Power Company and Duke Energy Vigo, LLC. The agreement is pursuant to the AEP Companies' Open Access Transmission Service Tariff (OATT) that has been designated as the Operating Companies of the American Electric Power System FERC Electric Tariff Revised Volume No. 6, effective June 15, 2001.

AEP requests an effective date of August 2, 2001.

A copy of the filing was served upon the Indiana Utility Regulatory Commission and the Michigan Public Service Commission.

Comment date: June 25, 2001, in accordance with Standard Paragraph E at the end of this notice.

4. Automated Power Exchange, Inc.

[Docket No. ER01-2216-000]

Take notice that on June 4, 2001, Automated Power Exchange, Inc. tendered for filing a new rate schedule under which APX will offer power exchange services in the APX West Wide Market.

Comment date: June 25, 2001, in accordance with Standard Paragraph E at the end of this notice.

5. Sunrise Power Company, LLC

[Docket No. ER01-2217-000]

Take notice that on June 4, 2001, Sunrise Power Company, LLC (Seller), a limited liability company organized under the laws of the State of Delaware, tendered for filing an order: (1) Accepting Seller's proposed market-based rate tariff; (2) granting waiver of certain Commission regulations under the Federal Power Act; and (3) granting the blanket approvals normally accorded sellers permitted to sell at market-based rates. Seller is constructing, and intends to own and operate a 560 MW electric generating facility in Kern County, California.

Comment date: June 25, 2001, in accordance with Standard Paragraph E at the end of this notice.

6. Duke Energy Corporation

[Docket No. ER01-2218-000]

Take notice that on June 4, 2001, Duke Energy Corporation (Duke) tendered for filing a Service Agreement with Carolina Power & Light Company for Firm Transmission Service under Duke's Open Access Transmission Tariff.

Duke requests that the proposed Service Agreement be permitted to become effective on May 7, 2001.

Duke states that this filing is in accordance with Part 35 of the Commission's Regulations and a copy has been served on the North Carolina Utilities Commission.

Comment date: June 25, 2001, in accordance with Standard Paragraph E at the end of this notice.

7. Duke Energy Corporation

[Docket No. ER01-2219-000]

Take notice that on June 4, 2001, Duke Energy Corporation (Duke) tendered for filing a Service Agreement with Carolina Power & Light Company for Firm Transmission Service under Duke's Open Access Transmission Tariff.

Duke requests that the proposed Service Agreement be permitted to become effective on May 7, 2001.

Duke states that this filing is in accordance with Part 35 of the Commission's Regulations and a copy has been served on the North Carolina Utilities Commission.

Comment date: June 25, 2001, in accordance with Standard Paragraph E at the end of this notice.

8. Xcel Energy Operating Companies, Northern States Power Company (Minnesota), Northern States Power Company (Wisconsin)

[Docket No. ER01-2220-000]

Take notice that on June 4, 2001, Northern States Power Company and Northern States Power Company (Wisconsin) (jointly NSP Companies), wholly owned utility operating company subsidiaries of Xcel Energy, Inc., tendered for filing a Firm Point-to-Point Transmission Service Agreement (Agreement) between the NSP Companies and NSP Energy Marketing. The NSP Companies propose the Agreement be included in the Xcel Energy Operating Companies FERC Joint Open Access Transmission Tariff, Original Volume No. 1, as Service Agreement No. 188-NSP, pursuant to Order No. 614. The NSP Companies also submit Ninth Revised Sheet No. 1 (Table of Contents of Transmission Service Agreements) to the Joint OATT, Original Volume 1, to reflect inclusion of the Agreement.

The NSP Companies request that the Commission accept the Agreement and Ninth Revised Sheet No. 1 effective May 1, 2001, and request waiver of the Commission's notice requirements as may be necessary for the Agreement to be accepted for filing on the date requested.

Comment date: June 25, 2001, in accordance with Standard Paragraph E at the end of this notice.

9. New England Power Pool

[Docket No. ER01-2223-000]

Take notice that on June 4, 2001, the New England Power Pool (NEPOOL) tendered for filing the Seventy-Fifth Agreement Amending New England Power Pool Agreement (the Seventy-Fifth Agreement), which proposes changes to the NEPOOL arrangements that would adopt for New England a standard market design (SMD) for a congestion management system (CMS) and multi-settlement system (MSS). SMD would replace elements of the existing Commission-approved CMS/MSS arrangements for New England. The SMD would be modeled largely after the market design of PJM Interconnection, L.L.C. The NEPOOL Participants Committee requests that the Commission act to accept the Seventy-Fifth Agreement by July 31, 2001 to become effective on August 1, 2001 for transactions on and after the CMS/MSS Effective Date.

The NEPOOL Participants Committee states that copies of these materials were sent to all persons on the services list in these proceedings, the NEPOOL Participants, and the New England state governors and regulatory commissions.

Comment date: June 25, 2001, in accordance with Standard Paragraph E at the end of this notice.

10. Nordic Energy Barge #1, L.L.C., Nordic Energy Barge #2, L.L.C.

[Docket No. ER01-2224-000]

Take notice that on May 30, 2001, Nordic Energy Barge #1, L.L.C. (Nordic-EB1), and Nordic Energy Barge #2, L.L.C. (collectively, the Nordic Energy Barge LLCs), tendered for filing to: (1) Accept for filing its Rate Schedule FERC No. 1, which will permit each of the filing parties to sell electric energy and capacity to wholesale customers at market-based rates and permit transmission capacity reassignment; and (2) grant such other waivers and blanket authorizations as have been granted to other power marketers.

The Nordic Energy Barge LLCs intend to engage in wholesale electric power and energy sales as a marketer. Neither of the Nordic Energy Barge LLCs nor any of their affiliates owns or controls any transmission or currently operating or operable generation facilities, or has a franchised service area for the sale of electricity to captive customers. Each of the Nordic Energy Barge LLCs intends to own and operate a newly sited 100 MW barge-mounted generating unit, to be docked on the Columbia River in the vicinity of Longview, Washington, and to sell the output of that unit exclusively at wholesale. One of the units will be located in Washington waters, and the other in Oregon waters.

Comment date: June 20, 2001, in accordance with Standard Paragraph E at the end of this notice.

11. New York Independent System Operator, Inc.]

[Docket No. ER01-2230-000]

Take notice that on June 1, 2001, the New York Independent System Operator, Inc. (NYISO) tendered for filing an Informational Filing describing the operation of the Transmission Service Charge set forth in Attachment H to its Open-Access Transmission Tariff.

The NYISO has served a copy of this filing upon all parties on the service list in the above-referenced proceedings.

Comment date: June 22, 2001, in accordance with Standard Paragraph E at the end of this notice.

12. Midwest Independent Transmission System Operator, Inc.

[Docket No. ER01-479-001]

Take notice that on June 4, 2001, the Midwest Independent Transmission System Operator, Inc. (the Midwest ISO) tendered for filing revisions to its Open Access Transmission Tariff and Agreement of the Transmission Facilities Owners to Organize the Midwest ISO with respect to expanding the Midwest ISO Advisory Committee to include certain members of the Mid-Continent Area Power Pool (MAPP) and provide certain MAPP Transmission Owners with the option of electing Network Transmission Service on behalf of their bundled retail customers.

Copies of this filing were served upon all parties listed on the official service list compiled by the Secretary of the Commission in this proceeding.

Comment date: June 25, 2001, in accordance with Standard Paragraph E at the end of this notice.

13. Connecticut Yankee Atomic Power Company

[Docket No. ER01-813-001]

Take notice that on May 18, 2001, Connecticut Yankee Atomic Power Company, tendered for filing a notice in compliance with the Commission's April 30, 2001 order conditionally approving Connecticut Yankee proposal for compliance with the Commission's policy regarding post-employment benefits other than pensions (PBOP), Connecticut Yankee Atomic Power Company, 95 FERC ¶ 61,164 (2001). In light of the conditions imposed in that order, Connecticut Yankee states that it has decided not to implement the authority granted by the Commission in that order. Instead, it will continue to treat PBOP revenues as specified in the settlement approved by the Commission in a letter order dated July 18, 1996, and in accordance with applicable Commission requirements.

Comment date: June 18, 2001, in accordance with Standard Paragraph E at the end of this notice.

14. Illinois Power Company

[Docket No. ER99-4415-007]

Take notice that on May 29, 2001, Illinois Power Company, tendered for filing a revised Refund Report incorporating the revisions contemplated in the February Order.

Comment date: June 18, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

FR Doc. 01-14953 Filed 6-13-01; 8:45 am]

BILLING CODE 6717-01-P